DEPARTMENT OF ENERGY

Federal Energy Regulatory Commission

Combined Notice of Filings #1

Take notice that the Commission received the following electric rate filings:

Docket Numbers: ER19-2235-002.

Applicants: Tuscola Bay Wind, LLC.

Description: Compliance filing: Tuscola Bay Wind, LLC, Docket No. ER19-2235-002 to be effective 9/1/2019.

Filed Date: 5/18/20.

Accession Number: 20200518-5165.

Comments Due: 5 p.m. ET 6/8/20.

Docket Numbers: ER19-2707-002; ER10-2822-016; ER10-3158-009; ER10-3161-009; ER10-3162-009; ER12-308-009; ER16-1238-003; ER16-1250-008; ER17-1242-002; ER17-1392-003.

Applicants: Poseidon Wind, LLC, Atlantic Renewable Projects II LLC, Avangrid Arizona Renewables, LLC, Avangrid Renewables, LLC, El Cabo Wind LLC, Dillon Wind LLC, Manzana Wind LLC, Mountain View Power Partners III, LLC, Shiloh I Wind Project, LLC, Tule Wind LLC.

Description: Supplement to December 19, 2019 Notice of Change in Status of Poseidon Wind, LLC and the Avangrid Southwest MBR Sellers.

Filed Date: 5/18/20.

Accession Number: 20200518-5195.

Comments Due: 5 p.m. ET 6/8/20.

Docket Numbers: ER20-681-001.

Applicants: Tri-State Generation and Transmission Association, Inc.

Description: Compliance filing: Compliance Filing Re-submittal to be effective 2/22/2020.

Filed Date: 5/19/20.

Accession Number: 20200519-5132.

Comments Due: 5 p.m. ET 6/9/20.

Docket Numbers: ER20-1499-001.

Applicants: Appalachian Power Company.

Description: Tariff Amendment: OATT—AEP Texas Inc. 1-Co Rate Update, Attach K & Misc revisions—Amend Pending to be effective 5/15/2020.

Filed Date: 5/19/20.

Accession Number: 20200519-5064.

Comments Due: 5 p.m. ET 6/9/20.

Docket Numbers: ER20-1846-000.

Applicants: Midcontinent Independent System Operator, Inc.

Description: § 205(d) Rate Filing: 2020-05-18_Filing to Enhance Accreditation of Load Modifying Resources to be effective 8/16/2020.

Filed Date: 5/18/20.

Accession Number: 20200518-5159.

Comments Due: 5 p.m. ET 6/8/20.

Docket Numbers: ER20-1847-000.

Applicants: PJM Interconnection, L.L.C.

Description: § 205(d) Rate Filing: Original WMPA, Service Agreement No. 5639; Queue No. AF1-041 to be effective 4/23/2020.

Filed Date: 5/19/20.

Accession Number: 20200519-5020.

Comments Due: 5 p.m. ET 6/9/20.

Docket Numbers: ER20-1848-000.

Applicants: Southwest Power Pool, Inc.

Description: § 205(d) Rate Filing: NorthWestern Formula Rate Revisions to Incorporate Changes File in ER20-1090 to be effective 1/27/2020.

Filed Date: 5/19/20.

Accession Number: 20200519-5031.

Comments Due: 5 p.m. ET 6/9/20.

Docket Numbers: ER20-1849-000.

Applicants: Hardin Wind Energy LLC.

Description: Tariff Cancellation: Notice of Cancellation of Market-Based Rate Tariff to be effective 7/19/2020.

Filed Date: 5/19/20.

Accession Number: 20200519-5037.

Comments Due: 5 p.m. ET 6/9/20.

Docket Numbers: ER20-1850-000.

Applicants: Hardin Wind Energy Holdings LLC.

Description: Tariff Cancellation: Notice of Cancellation of Market-Based Rate Tariff to be effective 7/19/2020.

Filed Date: 5/19/20.

Accession Number: 20200519-5038.

Comments Due: 5 p.m. ET 6/9/20.

Docket Numbers: ER20-1851-000.

Applicants: Whitetail Solar 3, LLC.

Description: Baseline eTariff Filing: Reactive Power Compensation to be effective 7/18/2020.

Filed Date: 5/19/20.

Accession Number: 20200519-5085.

Comments Due: 5 p.m. ET 6/9/20.

Docket Numbers: ER20-1852-000.

Applicants: Midcontinent Independent System Operator, Inc., Ameren Illinois Company.

Description: § 205(d) Rate Filing: 2020-05-19_SA 3498 Ameren Illinois-BPWENA Payment Agreement to be effective 7/19/2020.

Filed Date: 5/19/20.

Accession Number: 20200519-5088.

Comments Due: 5 p.m. ET 6/9/20.

Docket Numbers: ER20-1853-000.

Applicants: Whitehorn Solar LLC.

Description: Baseline eTariff Filing: Application for Market-Based Rate Authorization, Request for Related Waivers to be effective 7/19/2020.

Filed Date: 5/19/20.

Accession Number: 20200519-5091.

Comments Due: 5 p.m. ET 6/9/20.

Docket Numbers: ER20-1854-000.

Applicants: PJM Interconnection, L.L.C.

Description: § 205(d) Rate Filing: Amendment to Second Revised WMPA No. 4869; Queue No. AC2-138/AD2-044 to be effective 2/22/2019.

Filed Date: 5/19/20.

Accession Number: 20200519-5124.

Comments Due: 5 p.m. ET 6/9/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 19, 2020.
Nathaniel J. Davis, Sr.,
Deputy Secretary.

[FR Doc. 2020-11208 Filed 5-22-20; 8:45 am]

BILLING CODE 6717-01-P